DEPARTMENT OF COMMERCE

National Oceanic and Atmospheric Administration

[I.D. 091702A]

Pacific Fishery Management Council; Public Meeting

AGENCY: National Marine Fisheries Service (NMFS), National Oceanic and Atmospheric Administration (NOAA), Commerce.

ACTION: Notice of public meeting.

SUMMARY: The Pacific Fishery Management Council's (Council) Groundfish Fishery Management Plan Environmental Impact Statement Oversight Committee (Ad Hoc EIS Oversight Committee) will hold a working meeting, which is open to the public, on the draft Groundfish Programmatic Environmental Impact Statement (PEIS).

DATES: The meeting will be held on October 7-8, 2002. The Ad Hoc EIS Oversight Committee working meeting will begin Monday, October 7, 2002 at 1 p.m. and may go into the evening until business for the day is completed. The meeting will reconvene from 8 a.m. to 5 p.m. Tuesday, October 8.

ADDRESSES: The meetings will be held in the conference room at the Pacific Fishery Management Council office, 7700 NE Ambassador Place,Portland, OR 97220-1384.

FOR FURTHER INFORMATION CONTACT: Dr. Christopher Dahl, NEPA Specialist, (503) 820-2280.

SUPPLEMENTARY INFORMATION: The purpose of the Ad Hoc EIS Oversight Committee meeting is to review the status of the PEIS and to develop comprehensive alternatives to the current groundfish management program. The committee met in May 2002 and developed an initial set of five program alternatives which were presented to the Council in June 2002. The Council delayed adoption of those recommendations due to preliminary information that major management changes might be necessary for the remainder of 2002 and 2003. The Council has now completed its deliberations on the 2003 harvest levels and management measures. The Ad Hoc EIS Oversight Committee will consider the Council's 2003 management recommendations, the May 2002 report, public comments, and other information and may choose to revise the proposed alternatives. The Ad Hoc EIS Oversight Committee will present its proposed alternatives to the Council at the October 28-November 1 meeting. The Council expects to adopt PEIS alternatives at that time.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Ms. Carolyn Porter at (503)820-2280 at least 5 days prior to the meeting date.

Dated: September 17, 2002.
Theophilus R. Brainerd,
Acting Director, Office of Sustainable Fisheries, National Marine Fisheries Service.

[FR Doc. 02-24014 Filed 9-20-02; 8:45 am]

BILLING CODE 3510-22-S